DEPARTMENT OF COMMERCE

National Oceanic and Atmospheric Administration

[RTID 0648-XE148]

Pacific Fishery Management Council; Public Meeting

AGENCY: National Marine Fisheries Service (NMFS), National Oceanic and Atmospheric Administration (NOAA), Commerce.

ACTION: Notice of public meetings.

SUMMARY: The Pacific Fishery Management Council's (Pacific Council) Coastal Pelagic Species Management Team (CPSMT) and Coastal Pelagic Species Advisory Subpanel (CPSAS) will hold public meetings.

DATES: The CPSMT meeting will be held Wednesday, September 4, 2024, from 1 p.m. to 4 p.m., Pacific Time or until business for the day has been completed.

The CPSAS meeting will be held Friday, September 6, 2024, from 1 p.m. to 4 p.m., Pacific Time or until business for the day has been completed.

ADDRESSES: These meetings will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Jessi Doerpinghaus, Staff Officer, Pacific Council; telephone: (503) 820-2415.

SUPPLEMENTARY INFORMATION: The primary purpose of the CPSMT and CPSAS online meetings are to discuss and develop work products and recommendations for the Pacific Council's September 2024 meeting. Topics will include marine planning, membership appointments, and workload planning for future meetings. Projects funded by the Inflation Reduction Act (IRA) will also be discussed. Other items on the Pacific Council's September agenda may be discussed. The CPSMT may also discuss the development of the Stock Assessment Fishery Evaluation document. The meeting agendas will be available on the Pacific Council's website in advance of the meetings. No management actions will be decided by the CPSMT or CPSAS. CPSMT and CPSAS recommendations will be considered by the Pacific Council at their September Council meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least ten days prior to the meeting date.

Authority: 16 U.S.C. 1801 et seq.

Dated: August 2, 2024.
Rey Israel Marquez,
Acting Deputy Director, Office of Sustainable Fisheries, National Marine Fisheries Service.

[FR Doc. 2024-17513 Filed 8-7-24; 8:45 am]

BILLING CODE 3510-22-P